COMMISSION ON CIVIL RIGHTS

Agenda and Notice of Public Meeting of the New Jersey Advisory Committee

AGENCY: Commission on Civil Rights.

ACTION: Announcement of briefing meeting.

SUMMARY: Notice is hereby given, pursuant to the provisions of the rules and regulations of the U.S. Commission on Civil Rights (Commission), and the Federal Advisory Committee Act (FACA), that a mini-briefing meeting of the New Jersey Advisory Committee to the Commission will convene at 11:00 a.m. (EDT) on Friday, June 29, 2018 in the Moot Court Room at Rutgers University Law School, 123 Washington Street, Newark, NJ 07102. The purpose of the mini-briefing is to discuss the five project concepts that advisory committee members are considering as a possible topic for their civil rights project with subject matter experts. The mini-briefing will help inform the members' decision when selecting the topic for their civil rights project. The meeting is scheduled for approximately four and one half hours.

DATES: Friday, June 29, 2018 (EDT).

TIME: 11:00 a.m.

ADDRESSES: Rutgers University Law School, Moot Court Room, 123 Washington Street, Newark, NJ 07102.

FOR FURTHER INFORMATION CONTACT: Evelyn Bohor at ero@usccr.gov, or 202-376-7533.

SUPPLEMENTARY INFORMATION: If other persons who plan to attend the meeting require other accommodations, please contact Evelyn Bohor at ebohor@usccr.gov at the Eastern Regional Office at least ten (10) working days before the scheduled date of the meeting.

Time will be set aside at the end of the briefing so that members of the public may address the Committee after the formal presentations have been completed. Persons interested in the issue are also invited to submit written comments; the comments must be received in the regional office by Monday, July 30, 2018. Written comments may be mailed to the Eastern Regional Office, U.S. Commission on Civil Rights, 1331 Pennsylvania Avenue, Suite 1150, Washington, DC 20425, faxed to (202) 376-7548, or emailed to Evelyn Bohor at ero@usccr.gov. Persons who desire additional information may contact the Eastern Regional Office at (202) 376-7533.

Records and documents discussed during the meeting will be available for public viewing as they become available at https://facadatabase.gov/committee/meetings.aspx?cid=240 and clicking on the “Meeting Details” and “Documents” links. Records generated from this meeting may also be inspected and reproduced at the Eastern Regional Office, as they become available, both before and after the meeting. Persons interested in the work of this advisory committee are advised to go to the Commission's website, www.usccr.gov, or to contact the Eastern Regional Office at the above phone number, email or street address.

Tentative Agenda

Friday, June 29, 2018 at 11:00 a.m.

I. Welcome and Introductions

II. Mini-Briefing

Topic 1

Topic 2

Topic 3

Topic 4

Topic 5

III. Other Business

IV. Adjourn

Dated: May 21, 2018.
David Mussatt,
Supervisory Chief, Regional Programs Unit.

[FR Doc. 2018-11189 Filed 5-24-18; 8:45 am]

BILLING CODE P